DEPARTMENT OF THE INTERIOR

Bureau of Land Management

[223.LLID933000.L14400000.ET0000.241A0]

Public Land Order No. 7914; Extension of Public Land Order No. 7549; Withdrawal of National Forest System Land To Preserve the Lemhi Pass National Historic Landmark; Montana and Idaho [IDI-33690/MTM-90527]

AGENCY: Bureau of Land Management, Interior.

ACTION: Public Land Order.

SUMMARY: This Public Land Order (PLO) extends the duration of the withdrawal created by PLO No. 7549, which would otherwise expire December 26, 2022, for an additional 20-year period. PLO No. 7549 withdrew 1,328.84 acres of National Forest System lands from location and entry under the United States mining laws, but not from the general land laws or mineral leasing laws, subject to valid existing rights. PLO No. 7549 also states that an additional 176.45 acres would become subject to the terms and conditions of this withdrawal upon acquisition of the mineral estate by the United States.

DATES: This PLO takes effect on December 27, 2022.

FOR FURTHER INFORMATION CONTACT: Christine Sloand, Realty Specialist, BLM Idaho State Office, 1387 S Vinnell Way, Boise, Idaho 83709, (208) 373-3897, or csloand@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires this extension to continue to protect the Lemhi Pass National Historic Landmark and to preserve the historic, recreational, and cultural heritage which this site represents.

Order

By virtue of the authority vested in the Secretary of the Interior by Section 204(f) of the Federal Land Policy and Management Act of 1976, 43 U.S.C. 1714(f), it is ordered as follows:

1. Subject to valid existing rights, PLO No. 7549 (67 FR 79141), which withdrew 1328.84 acres of National Forest System land from location or entry under the United States mining laws, but not from the general land laws or mineral leasing laws, to preserve the unique resources of Lemhi Pass National Historic Landmark, is hereby extended for an additional 20-year period.

2. An additional 176.45 acres would become subject to the terms and conditions of this withdrawal upon acquisition of the mineral estate by the United States.

3. The withdrawal extended by this Order will expire December 26, 2042, unless, as a result of a review conducted prior to the expiration date pursuant to Section 204(f) of the Federal Land Policy and Management Act of 1976, 43 U.S.C. 1714(f), the Secretary determines that the withdrawal shall be further extended.

Tommy Beaudreau,
Deputy Secretary of the Interior.

[FR Doc. 2022-25070 Filed 11-16-22; 8:45 am]

BILLING CODE 4310-GG-P